DEPARTMENT OF ENERGY

Federal Energy Regulatory Commission

Combined Notice of Filings #1

Take notice that the Commission received the following electric rate filings:

Docket Numbers: ER09-1256-003; ER09-1256-005; ER12-2708-004; ER12-2708-005; ER12-2708-007.

Applicants: Potomac-Appalachian Transmission Highline, LLC.

Description: Accounting Compliance Filing and Refund Report of Potomac-Appalachian Transmission Highline, LLC.

Filed Date: 5/1/20.

Accession Number: 20200501-5531.

Comments Due: 5 p.m. ET 5/22/20.

Docket Numbers: ER18-1906-002; ER10-1532-005; ER10-1541-006; ER10-1642-007; ER10-1767-005; ER13-2349-004; ER13-2350-004; ER16-221-003; ER17-1757-003; ER18-1907-002.

Applicants: Entergy Arkansas, LLC, Entergy Louisiana, LLC, Entergy Mississippi, LLC, Entergy New Orleans, LLC, Entergy Texas, Inc., Entergy Nuclear Palisades, LLC, Entergy Power, LLC, EWO Marketing, LLC, EAM Nelson Holding, LLC, RS Cogen, LLC.

Description: Notification of Non-Material Change in Status of the Entergy Central MBR Utilities.

Filed Date: 4/30/20.

Accession Number: 20200430-5499.

Comments Due: 5 p.m. ET 5/21/20.

Docket Numbers: ER20-938-001.

Applicants: Midcontinent Independent System Operator, Inc.

Description: Tariff Amendment: 2020-05-01_Deficiency Response regarding SPP-JOA Affected Systems to be effective 4/4/2020.

Filed Date: 5/1/20.

Accession Number: 20200501-5350.

Comments Due: 5 p.m. ET 5/22/20.

Docket Numbers: ER20-941-001.

Applicants: Southwest Power Pool, Inc.

Description: Tariff Amendment: Deficiency Response—Enhance and Clarify Affected Systems Coordination to be effective 4/4/2020.

Filed Date: 5/1/20.

Accession Number: 20200501-5303.

Comments Due: 5 p.m. ET 5/22/20.

Docket Numbers: ER20-1203-000.

Applicants: Rock Creek Wind Project, LLC.

Description: Report Filing: Rock Creek Wind Project, LLC Supplement to be effective N/A.

Filed Date: 5/1/20.

Accession Number: 20200501-5247.

Comments Due: 5 p.m. ET 5/22/20.

Docket Numbers: ER20-1728-000.

Applicants: Borrego Solar Systems, Inc.

Description: Request for Limited Waiver of Borrego Solar Systems, Inc.

Filed Date: 4/30/20.

Accession Number: 20200430-5464.

Comments Due: 5 p.m. ET 5/5/20.

Docket Numbers: ER20-1751-000.

Applicants: El Paso Electric Company.

Description: Request for Waiver of OATT Provisions, et al. of El Paso Electric Company.

Filed Date: 5/1/20.

Accession Number: 20200501-5342.

Comments Due: 5 p.m. ET 5/6/20.

Docket Numbers: ER20-1752-000.

Applicants: The Empire District Electric Company.

Description: Request for Limited Waiver for Extension of Time to File Annual Formula Rate Update of The Empire District Electric Company.

Filed Date: 5/1/20.

Accession Number: 20200501-5364.

Comments Due: 5 p.m. ET 5/22/20.

Docket Numbers: ER20-1753-000.

Applicants: Duke Energy Progress, LLC.

Description: Petition for Waiver of Tariff Provisions of Duke Energy Progress, LLC.

Filed Date: 5/1/20.

Accession Number: 20200501-5477.

Comments Due: 5 p.m. ET 5/22/20.

Docket Numbers: ER20-1754-000, ES20-40-000.

Applicants: Assembly Solar, LLC.

Description: Request for Waivers and Blanket Authorization to Issue Securities and Assume Liabilities of Assembly Solar, LLC.

Filed Date: 5/1/20.

Accession Number: 20200501-5478.

Comments Due: 5 p.m. ET 5/22/20.

Docket Numbers: ER20-1755-000.

Applicants: Green Mountain Power Corporation.

Description: Request for Limited Tariff Waiver, et al. of Green Mountain Power Corporation

Filed Date: 5/1/20.

Accession Number: 20200501-5479.

Comments Due: 5 p.m. ET 5/22/20.

Docket Numbers: ER20-1757-000.

Applicants: Arizona Public Service Company.

Description: Tariff Cancellation: Service Agreement No. 369—LCWCD Cancellation to be effective 7/4/2020.

Filed Date: 5/4/20.

Accession Number: 20200504-5081.

Comments Due: 5 p.m. ET 5/26/20.

Docket Numbers: ER20-1758-000.

Applicants: Arizona Public Service Company.

Description: Tariff Cancellation: Service Agreement No. 371—TOUA Cancellation to be effective 7/4/2020.

Filed Date: 5/4/20.

Accession Number: 20200504-5087.

Comments Due: 5 p.m. ET 5/26/20.

Docket Numbers: ER20-1759-000.

Applicants: PJM Interconnection, L.L.C.

Description: § 205(d) Rate Filing: Amendment to ISA & ICSA, SA Nos. 4492 & 4494; Queue No. AA2-060 (consent/amend) to be effective 6/30/2016.

Filed Date: 5/4/20.

Accession Number: 20200504-5090.

Comments Due: 5 p.m. ET 5/26/20.

Docket Numbers: ER20-1760-000.

Applicants: PJM Interconnection, L.L.C.

Description: § 205(d) Rate Filing: Amendment to ISA & ICSA, SA Nos. 4501 & 4502; Queue No. AA2-061 (consent/amend) to be effective 7/1/2016.

Filed Date: 5/4/20.

Accession Number: 20200504-5091.

Comments Due: 5 p.m. ET 5/26/20.

Docket Numbers: ER20-1761-000.

Applicants: California Independent System Operator Corporation.

Description: § 205(d) Rate Filing: 2020-05-04 Turlock EIM Entity Agreement to be effective 7/4/2020.

Filed Date: 5/4/20.

Accession Number: 20200504-5115.

Comments Due: 5 p.m. ET 5/26/20.

Docket Numbers: ER20-1762-000.

Applicants: Duke Energy Carolinas, LLC.

Description: Petition for Waiver of Tariff Provisions of Duke Energy Carolinas, LLC.

Filed Date: 5/1/20.

Accession Number: 20200501-5532.

Comments Due: 5 p.m. ET 5/22/20.

Docket Numbers: ER20-1763-000.

Applicants: PJM Interconnection, L.L.C.

Description: § 205(d) Rate Filing: Amendment of WMPA, SA No. 5480, Queue No. AD2-002 (consent) to be effective 8/5/2019.

Filed Date: 5/4/20.

Accession Number: 20200504-5134.

Comments Due: 5 p.m. ET 5/26/20.

Docket Numbers: ER20-1764-000.

Applicants: PJM Interconnection, L.L.C.

Description: § 205(d) Rate Filing: Revisions to OA Schedule 2 re Fuel Cost Policy to be effective 9/1/2020.

Filed Date: 5/4/20.

Accession Number: 20200504-5135.

Comments Due: 5 p.m. ET 5/26/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2020.
Nathaniel J. Davis, Sr.,
Deputy Secretary.

[FR Doc. 2020-09866 Filed 5-7-20; 8:45 am]

BILLING CODE 6717-01-P